DEPARTMENT OF AGRICULTURE

Forest Service

Southwestern Region, Arizona, Coconino County, Coconino National Forests

AGENCY: Forest Service, USDA.

ACTION: Notice of intent to prepare an environmental impact statement.

SUMMARY: The coconino National Forest is planning to prepare an environmental impact statement on a proposal to manage livestock grazing use on the Windmill Range Allotment during the next 10 years.

DATES: Comments in response to this Notice of Intent concerning the scope of the analysis should be received in writing by on or before April 23, 2001.

ADDRESSES: Send written comments to USDA Forest Service, Coconino National Forest, Peaks Ranger Station, 5075 N Hwy 89, Flagstaff, AZ 86004. Electronic mail may be sent to mhannemann@fs.fed.us.

Responsible Official: The Forest Supervisor of the Coconino National Forest, Supervisor's Office 2323 Greenlaw Lane, Flagstaff, AZ 86004, will decide what actions are most appropriate for managing the Windmill Allotment.

FOR FURTHER INFORMATION CONTACT: Mike Hannemann, Interdisciplinary Team Leader, Peaks Ranger District, (520) 526-0866.

SUPPLEMENTARY INFORMATION: This proposal has a Forest Service permit of up to 1,097 cattle year-round on the 248,792 acres Windmill Allotment. This is the same number of cattle as currently permitted. An additional Arizona State Land Department permit of 160 head in the summer and 155 head in the winter is also included. To meet objectives, approximately $71,450 will be spent on structural improvements. The Forest Service will spend approximately $31,565 primarily for materials and the permittee will spend approximately $39,885 primarily for construction of the improvements. These improvements are designed to reduce cattle impacts in large pastures by improving cattle distribution, reducing graze periods and increasing rest periods. A reduction in pasture size will also improve overall management by reducing time needed to gather cattle from these large and rough pastures. Annual Operating Plans will adjust cattle numbers and/or grazing rotations so cattle use is consistent with current productivity (as in drought condtions) and so plant, soil and watershed condtions can be maintained or improved while range structures are built over time.

The Proposed Action was mailed to over 30 individuals, organizations and cooperating resource agencies for review and comment on July 5, 2000. From comments received, the Team will develop statements to capture the substantive issues and developed alternatives other than the proposed action. If you would like a copy of the proposed action please contact our office. Your comments will be included in our environmental analysis.

It is anticipated that environmental analysis and preparation of the draft and final environmental impact statements will take about four months. The Draft Environmental Impact Statement can be expected June of 2001 and the Final EIS in late summer. The comment period on the draft environmental impact statement extends 45 days from the date the Environmental Protection Agency publishes the notice of availability in the Federal Register.

The Forest Service believes, at this early stage, it is important to give reviewers notice of several court ruling related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' position and contentions. Vermont Yankee Nuclear Power Corp. v. NRDC 435 US 519, 553 (1978). Environmental objections that could have been raised at the draft stage may be waived if not raised until after completion of the final environmental impact statement. City of Angoon v. Hodel 9th Circuit, 1986) and Wisconsin Heritages, Inc. v. Harris, 490 F. Supp. 1334, 1338 (E.D. Wis. 1980). The reason for this is to ensure that substantive comments and objections are made available to the Forest Service at a time when it can meaningfully consider them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council of Environmental Quality Regulations for implementing the procedural provisions of the National Environmental Policy Act at 40 CFR 1503.3 in addressing these points.

Dated: March 12, 2001.
Jim Golden,
Forest Supervisor.

[FR Doc. 01-7129 Filed 3-21-01; 8:45 am]

BILLING CODE 3410-11-M